DEPARTMENT OF DEFENSE

Department of the Army

Availability for Non-Exclusive, Exclusive, or Partially Exclusive Licensing of U.S. Patent Application Concerning Foley Catheter Adaptor

AGENCY: Department of the Army, DoD.

ACTION: Notice.

SUMMARY: Announcement is made of the availability for licensing of the invention set forth in U.S. Patent Application No. 11/379,558 entitled “Foley Catheter Adaptor,” filed April 20, 2006—(Patent Application Publication No. U.S. 2008/0009793, published January 10, 2008). The United States Government, as represented by the Secretary of the Army, has rights in this invention.

ADDRESSES: Commander, U.S. Army Medical Research and Materiel Command, ATTN: Command Judge Advocate, MCMR-JA, 504 Scott Street, Fort Detrick, Frederick, MD 21702-5012.

FOR FURTHER INFORMATION CONTACT: For patent issues, Ms. Elizabeth Arwine, Patent Attorney, (301) 619-7808. For licensing issues, Dr. Paul Mele, Office of Research & Technology Assessment, (301) 619-6664, both at telefax (301) 619-5034.

SUPPLEMENTARY INFORMATION: A safety adaptor having attachment components and reservoir components for use with balloon anchored catheters such that if the catheter is forcibly removed the reservoir components will act as a safety valve and allow the anchoring balloon to deflate. The safety adaptor acts to minimize damage caused to a patient due to the removal of an inflated anchor balloon of a catheter. The safety adaptor attaches to any existing catheter having a fluid balloon and does not require re-engineering or re-tooling of the catheter or adaptor.

Brenda S. Bowen,
Army Federal Register Liaison Officer.

[FR Doc. E8-28817 Filed 12-4-08; 8:45 am]

BILLING CODE 3710-08-P